DEPARTMENT OF HOMELAND SECURITY

Coast Guard

33 CFR Part 167

[USCG-2005-20380]

Port Access Routes Study of Potential Vessel Routing Measures To Reduce Vessel Strikes of North Atlantic Right Whales

AGENCY: Coast Guard, DHS.

ACTION: Notice of study; request for comments.

SUMMARY: The Coast Guard is conducting a Port Access Route Study (PARS) to analyze potential vessel routing measures and consider adjusting existing vessel routing measures in order to reduce vessel strikes of the highly endangered North American right whale. Potential vessel routing measures are being considered to protect the right whale from ship strikes in their two major aggregation areas, while minimizing adverse impacts on vessel operations. This study will focus on the northern region: first on Cape Code Bay, and then, if it can be accomplished within the timeframe required by applicable legislation, the area off Race Point at the northern end of Cape Code (Race Point) and the Great South Channel, and the southern region: Along the seacoast in the approaches to the Ports of Jacksonville and Fernandina Beach, Florida, and Brunswick, Georgia. The recommendations of the study may lead to future rulemaking actions or appropriate international agreements.

DATES: Comments and related material must reach the Docket Management Facility on or before April 19, 2005.

ADDRESSES: You may submit comments identified by Coast Guard docket number USCG-2005-20380 to the Docket Managaement Facility at the U.S. Department of Transportation. To avoid duplication, please use only one of the following methods:

(1) Web site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

(5) Federal eRulemaking Portal: http://www.regulations.gov.

FOR FURTHER INFORMATION CONTACT: If you have questions on this notice of study, call George Detweiler, Office of Vessel Traffic Management, Coast Guard, telephone 202-267-0574,or send e-mail to Gdetweiler@comdt.uscg.mil. If you have questions on viewing or submitting material to the docket, call Renee K. Wright, Program Manager, Docket Operations, telephone 202-366-0271.

SUPPLEMENTARY INFORMATION:

Public Participation and Request for Comments

We encourage you to participate in this study by submitting comments and related materials. All comments received will be posted, without change, to http://dms.dot.gov and will include any personal information you have provided. We have an agreement with the Department of Transportation (DOT) to use the Docket Management Facility. Please see DOT's “Privacy Act” paragraph below.

Submitting Comments: If you submit a comment, please include your name and address, identify the docket number for this notice of study (USCG-2005-20380), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing Comments and Documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Definitions

The following definitions are from the International Maritime Organization's (IMO's) publication “Ships' Routing” (except those marked by an asterisk) and should help you review this notice:

Area to be avoided or ATBA means a routing measure comprising an area within defined limits in which either navigation is particularly hazardous or it is exceptionally important to avoid casualties and which should be avoided by all vessels, or certain classes of vessels.

Deep-water route means within defined limits, which has been accurately surveyed for clearance of sea bottom and submerged obstacles as indicated on nautical charts.

Inshore traffic zone means a routing measure comprising a designated area between the landward boundary of a traffic separation scheme and the adjacent coast, to be used in accordance with the provisions of Rule 10(d), as amended, of the International Regulations for Preventing Collisions at Sea, 1972 (COLREGS).

Precautionary area means a routing measure comprising an area within defined limits where vessels must navigate with particular caution and within which the direction of traffic flow may be recommended.

Recommended route means a route of undefined width, for the convenience of vessels in transit, which is often marked by centerline buoys.

Recommended track is a route which has been specially examined to ensure so far as possible that it is free of dangers and along which vessels are advised to navigate.

Regulated Navigation Area or RNA* means a water area within a defined boundary for which regulations for vessels navigating within the area have been established under 33 CFR part 165.

Roundabout means a routing measure comprising a separation point or circular separation zone and a circular traffic lane within defined limits. Traffic within the roundabout is separated by moving in a counterclockwise direction around the separation point or zone.

Separation Zone or separation line means a zone or line separating the traffic lanes in which vessels are proceeding in opposite or nearly opposite directions; or from the adjacent sea area; or separating traffic lanes designated for particular classes of vessels proceeding in the same direction.

Traffic lane means an area within defined limits in which one-way traffic is established. Natural obstacles, including those forming separation zones, may constitute a boundary.

Traffic Separation Scheme or TSS means a routing measure aimed at the separation of opposing streams of traffic by appropriate means and by the establishment of traffic lanes.

Two-way route means a route within defined limits inside which two-way traffic is established, aimed at providing safe passage of ships through waters where navigation is difficult or dangerous.

Vessel routing system means any system of one or more routes or routing measures aimed at reducing the risk of casualties; it includes traffic separation schemes, two-way routes, recommended tracks, areas to be avoided, no anchoring areas, inshore traffic zones, roundabouts, precautionary areas, and deep-water routes.

Background and Purpose

Why is this study being conducted? The National Marine Fisheries Service (NMFS) of the National Oceanic and Atmospheric Administration recently published an advance notice of proposed rulemaking (NMFS ANPRM) (69 FR 30857, June 1, 2004) in the Federal Register, which announced that it is considering regulations to implement a strategy to reduce ship strikes of right whales (Strategy). The goal of the Strategy is to address the lack of recovery of the right whale by reducing the likelihood and threat of ship strikes.

Section 626 of the Coast Guard and Maritime Transportation Act of 2004 (the 2004 Act) (enacted August 9, 2004) mandates that the Coast Guard shall: (1) Cooperate with the National Oceanic and Atmospheric Administration “in analyzing potential vessel routing measures for reducing vessel strikes of North Atlantic Right Whales, as described in the notice published at pages 30857 through 30861 of volume 69 of the Federal Register;” and (2) provide a final report of the analysis to Congress within 18 months after the date of enactment of the Act.

The Coast Guard is charged with enforcing the Marine Mammal Protection Act (MMPA), the Endangered Species Act (ESA), and the regulations issued under those statutes. One of the Coast Guard's primary strategic goals is the protection to the marine environment, including the conservation of living marine resources and enforcement of living marine resource laws.

The Coast Guard works in collaboration with NMFS to prevent ship strikes. The Coast Guard issues local and written periodic notices to mariners concerning ship strikes, issues NAVTEX messages alerting mariners to the location of right whales, and actively participates in the Mandatory Ship Reporting (MSR) System that provides information to mariners entering right whale habitat. In addition, the Coast Guard provides patrols dedicated to enforcement of the ESA and the MMPA, provides limited vessel and aircraft support to facilitate right whale research and monitoring, and disseminates NMFS information packets to vessels boarded in or near right whale waters. NMFS asked the Coast Guard for assistance in its ship-strike rulemaking by conducting this PARS.

When are port access route studies required? Under the Ports and Waterways Safety Act (PWSA) (33 U.S.C. 1223(c)), the Commandant of the Coast Guard may designate necessary fairways and traffic separation schemes (TSSs) to provide safe access routes for vessels proceeding to and from U.S. ports. The PWSA provides that such designation of fairways and TSSs must recognize, within the designated areas, the paramount right of navigation over all other uses.

The PWSA requires the Coast Guard to conduct a study of potential traffic density and the need for safe access routes for vessels before establishing or adjusting fairways or TSSs. Through the study process, we must coordinate with Federal, State, and foreign state agencies (as appropriate) and consider the views of maritime community representatives, environmental groups, and other interested stakeholders. A primary purpose of this coordination is, to the extent practicable, to reconcile the need for safe access routes with other reasonable waterway uses.

What are the timetable, study area, and process of this PARS? The Vessel Traffic Management Division (G-MWV) of Coast Guard Headquarters will conduct this PARS. The study will begin immediately and must be completed by September, 2005, in order for the Coast Guard and NMFS to prepare their required report to Congress by January, 2006.

The study area is divided into two regions described as follows:

1. Northern region: Cape Cod Bay; the area off Race Point at the northern end of Cape Cod (Race Point) and the Great South Channel.

2. Southern region: The area bounded to the north by a line drawn at latitude 31° 27′N (which coincides with the northernmost boundary of the mandatory ship reporting system) and to the south by a line drawn at latitude line 29° 45′N. The eastern offshore boundary is formed by a line drawn at longitude 81° 00′W and the western boundary is formed by the shoreline. Included in this area are the ports of Jacksonville and Fernandina, FL, and Brunswick, GA.

As part of this study, we will consider previous studies, analyses of vessel traffic density, and agency and stakeholder experience in and public comments on vessel traffic management, navigation, ship handling, and affects of weather. We encourage you to participate in the study process by submitting comments in response to this notice.

We will publish the results of the PARS in the Federal Register. The study may—

1. Recommend implementing the vessel routing measures identified in the NMFS ANPRM for the two areas;

2. Recommend creating vessel routing measures other than those proposed in the NMFS ANPRM for the two areas;

3. Validate existing vessel routing measures, if any, and conclude that no changes are necessary; or

4. Recommend changes be made to the existing vessel routing measures, if any, in order to reduce the threat of ship strikes of right whales.

The recommendations may lead to future rulemakings or appropriate international agreements.

Possible Scope of the Recommendations

We expect that information gathered during the study will identify any problems and appropriate solutions. The study may recommend that, in any or all of the study areas, all or some of the following items be accompished:

1. Maintain current vessel routing measures, if any.

2. Establish Traffic Separation Schemes (TSS) at the entrances to the identified ports.

3. Designate recommended or mandatory routes.

4. Create one or more precautionary areas.

5. Create one or more inshore traffic zones.

6. Create deep-draft routes.

7. Establish area(s) to be avoided (ATBA).

8. Establish, disestablish, or modify anchorage grounds.

9. Establish a Regulated Navigation Area (RNA) with specific vessel operating requirements to ensure safe navigation near shallow water.

10. Identify any other appropriate ships' routing measures to be used.

Questions

To help us conduct the port access route study, we request comments on the following questions, although comments on other issues addressed in this document are also welcome. In responding to a question, please explain your reasons for each answer and follow the instructions under “Public Participation and Request for comments” above.

1. What navigational hazards do vessels operating in the study areas face? Please describe.

2. Are there strains on the current vessel routing system, such as increasing traffic density? If so, please describe.

3. What are the benefits and drawbacks to modifying existing vessel routing measures, if any, or establishing new routing measures such as those described in the NMFS ANPRM? If so, please describe.

4. What impacts, both positive and negative, would changes to existing routing measures, if any, or new routing measures, such as those described in the NMFS ANPRM, have on the study area?

Dated: February 10, 2005.
Howard L. Hime,
Acting Director of Standards, Marine Safety, Security and Environmental Protection.

[FR Doc. 05-3117 Filed 2-17-05; 8:45 am]

BILLING CODE 4910-15-M